DEPARTMENT OF HEALTH AND HUMAN SERVICES

Centers for Medicare and Medicaid Services

[Document Identifier: CMS-10000, CMS-10091 and CMS-10028A, B, and C]

Agency Information Collection Activities: Submission for OMB Review; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Medicare Consumer Assessment of Health Plan Survey-Fee for Service (CAHPS-FFS); Form No.: CMS-10000 (OMB# 0938-0796); Use: Under the Balanced Budget Act of 1997, CMS is required to provide general and plan comparative information to beneficiaries that will help them make more informed plan choices. A CAHPS fee-for-service survey is needed to provide information comparable to those data collected from the CAHPS managed care survey; Frequency: Annually; Affected Public: Individuals or Households; Number of Respondents: 142,920; Total Annual Responses: 142,920; Total Annual Hours: 47,640.

2. Type of Information Collection Request: Extension of a currently approved collection; Title of Information Collection: UPIN (Unique Physician Identification Number) Participating Physicians Directory; Form No.: CMS-10091 (OMB# 0938-0905); Use: In November of 2000, CMS launched the Participating Physicians Directory on http://www.medicare.gov. This particular directory was created to provide beneficiaries with the names, addresses, and specialties of Medicare participating physicians who have agreed to accept assignment on all Medicare claims and covered services. CMS is adding information from already existing sources; in addition, CMS wants to collect a new data element “Accepting New Patients Indicator” which is essential to a beneficiary's search for a physician; Frequency: On occasion; Affected Public: Business or other for-profit; Number of Respondents: 10,980; Total Annual Responses: 10,980; Total Annual Hours: 915.

3. Type of Information Collection Request: Extension of a currently approved collection; Title of Information Collection: State Health Insurance Assistance Program (SHIP) Client Contact Form, Public and Media Activity Form, and Resource Report; Form No.: CMS-10028A, B, C (OMB# 0938-0850); Use: The State Health Insurance Assistance Program (SHIP) Client Contract form will be completed by SHIP counselors at each counseling event in order to collect SHIP performance data. This data will then be accumulated and analyzed to measure SHIP performance; Frequency: Semi-annually and annually; Affected Public: State, Local, or Tribal Government, Not-for-profit institutions, and Federal Government; Number of Respondents: 12,000; Total Annual Responses: 1,000,000; Total Annual Hours: 116,747.

To obtain copies of the supporting statement and any related forms for the proposed paperwork collections referenced above, access CMS Web site address at http://cms.hhs.gov/regulations/pra/default.asp, or e-mail your request, including your address, phone number, OMB number, and CMS document identifier, to Paperwork@hcfa.gov, or call the Reports Clearance Office on (410) 786-1326. Written comments and recommendations for the proposed information collections must be mailed within 30 days of this notice directly to the OMB desk officer: OMB Human Resources and Housing Branch, Attention: Brenda Aguilar, New Executive Office Building, Room 10235, Washington, DC 20503.

Dated: December 18, 2003.
Melissa Musotto,
Acting, Paperwork Reduction Act Team Leader, CMS Reports Clearance Officer, Office of Strategic Operations and Strategic Affairs, Division of Regulations Development and Issuances.

[FR Doc. 03-32044 Filed 12-29-03; 8:45 am]

BILLING CODE 4120-03-P